DEPARTMENT OF DEFENSE

Department of the Army

[Docket ID: USA-2021-HQ-0020]

Submission for OMB Review; Comment Request

AGENCY: Department of the Army, Department of Defense (DoD).

ACTION: Emergency notice.

SUMMARY: Consistent with the Paperwork Reduction Act of 1995 and its implementing regulations, this document provides notice DoD is submitting an Information Collection Request to the Office of Management and Budget (OMB) to conduct research to investigate the theoretical relationship between diversity, inclusion policies and practices, and Soldier and team performance. DoD requests emergency processing and OMB authorization to collect the information after publication of this notice for a period of six months.

DATES: Comments must be received by August 25, 2021.

ADDRESSES: The Department has requested emergency processing from OMB for this information collection request by 2 days after publication of this notice. Interested parties can access the supporting materials and collection instrument as well as submit comments and recommendations to OMB at www.reginfo.gov/public/do/PRAMain. Find this particular information collection by selecting “Currently under 2-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: This information collection requirement is necessary to evaluate the statistical validity of a scientific model and associated measurement instrument. The model and instrument could be used by the Army for deeper understanding of how to improve inclusion policies and practices.

Title; Associated Form; and OMB Number: Inclusion Policy Practice Decoupling Phase II; OMB Control Number 0702-IPPD.

Type of Request: Emergency.

Number of Respondents: 2,000.

Responses per Respondent: 1.

Annual Responses: 2,000.

Average Burden per Response: 45 minutes.

Annual Burden Hours: 1,500.

Affected Public: None.

Frequency: Once.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: August 18, 2021.
Aaron T. Siegel,
Alternate OSD Federal Register Liaison Officer, Department of Defense.

[FR Doc. 2021-18092 Filed 8-20-21; 8:45 am]

BILLING CODE 5001-06-P